FEDERAL FINANCIAL INSTITUTIONS EXAMINATION COUNCIL

[Docket No. AS24-27]

Appraisal Subcommittee; Notice of Meeting

AGENCY: Appraisal Subcommittee of the Federal Financial Institutions Examination Council.

ACTION: Notice of special meeting.

Description: In accordance with section 1104(b) of title XI of the Financial Institutions Reform, Recovery, and Enforcement Act of 1989, codified at 12 U.S.C. 3333(b), notice is hereby given that the Appraisal Subcommittee (ASC) met for a Special Meeting on this date.

Location: Virtual meeting via Teams.

Date: November 13, 2024.

Time: 11:50 a.m. ET.

Action and Discussion Item

Personnel Matter

The ASC convened a Special Meeting to discuss and take a vote on a personnel matter.

Loretta Schuster,
Management & Program Analyst.

[FR Doc. 2024-28908 Filed 12-9-24; 8:45 am]

BILLING CODE 6700-01-P